ENVIRONMENTAL PROTECTION AGENCY

[EPA-HQ-OAR-2022-0042; FRL-10257-01-OMS]

Information Collection Request Submitted to OMB for Review and Approval; Comment Request; NESHAP for Area Sources: Asphalt Processing and Asphalt Roofing Manufacturing (Renewal)

AGENCY: Environmental Protection Agency (EPA).

ACTION: Notice.

SUMMARY: The Environmental Protection Agency (EPA) has submitted an information collection request (ICR), Asphalt Processing and Asphalt Roofing Manufacturing (EPA ICR Number 2352.06, OMB Control Number 2060-0634), to the Office of Management and Budget (OMB) for review and approval in accordance with the Paperwork Reduction Act. This is a proposed extension of the ICR, which is currently approved through November 30, 2022. Public comments were previously requested, via the Federal Register, on April 8, 2022 during a 60-day comment period. This notice allows for an additional 30 days for public comments. A fuller description of the ICR is given below, including its estimated burden and cost to the public. An agency may neither conduct nor sponsor, and a person is not required to respond to, a collection of information unless it displays a currently valid OMB control number.

DATES: Additional comments may be submitted on or before October 31, 2022.

ADDRESSES: Submit your comments, referencing Docket ID Number EPA-HQ-OAR-2022-0042, online using https://www.regulations.gov/ (our preferred method), or by email to docket@epa.gov, or by mail to: EPA Docket Center, Environmental Protection Agency, Mail Code 28221T, 1200 Pennsylvania Ave. NW, Washington, DC 20460. The EPA's policy is that all comments received will be included in the public docket without change, including any personal information provided, unless the comment includes profanity, threats, information claimed to be Confidential Business Information (CBI), or other information whose disclosure is restricted by statute.

Submit written comments and recommendations to OMB for the proposed information collection within 30 days of publication of this notice to www.reginfo.gov/public/do/PRAMain. Find this particular information collection by selecting “Currently under 30-day Review—Open for Public Comments” or by using the search function.

FOR FURTHER INFORMATION CONTACT: Muntasir Ali, Sector Policies and Program Division (D243-05), Office of Air Quality Planning and Standards, U.S. Environmental Protection Agency, Research Triangle Park, North Carolina, 27711; telephone number: (919) 541-0833; email address: ali.muntasir@epa.gov.

SUPPLEMENTARY INFORMATION: Supporting documents, which explain in detail the information that the EPA will be collecting, are available in the public docket for this ICR. The docket can be viewed online at https://www.regulations.gov, or in person at the EPA Docket Center, WJC West Building, Room 3334, 1301 Constitution Ave. NW, Washington, DC. The telephone number for the Docket Center is 202-566-1744. For additional information about EPA's public docket, visit: http://www.epa.gov/dockets.

Abstract: The National Emission Standards for Hazardous Air Pollutants (NESHAP) for Area Sources: Asphalt Processing and Asphalt Roofing Manufacturing (40 CFR part 63, subpart AAAAAAA) were proposed on July 9, 2009, promulgated on December 2, 2009, and amended on March 18, 2010. These regulations apply to existing facilities and new facilities that are Area Sources and that either process asphalt or manufacture asphalt roofing products. New facilities include those that commenced either construction, modification or reconstruction after the date of proposal. This information is being collected to assure compliance with 40 CFR part 63, subpart AAAAAAA.

In general, all NESHAP standards require initial notifications, performance tests, and periodic reports by the owners/operators of the affected facilities. They are also required to maintain records of the occurrence and duration of any startup, shutdown, or malfunction in the operation of an affected facility, or any period during which the monitoring system is inoperative. These notifications, reports, and records are essential in determining compliance, and are required of all affected facilities subject to the NESHAP.

Form Numbers: None.

Respondents/affected entities: Existing and new facilities that are area sources and that process asphalt or manufacture asphalt roofing products.

Respondent's obligation to respond: Mandatory (40 CFR part 63, subpart AAAAAAA).

Estimated number of respondents: 59 (total).

Frequency of response: Semiannually.

Total estimated burden: 2,370 hours (per year). Burden is defined at 5 CFR 1320.3(b).

Total estimated cost: $286,000 (per year), which includes $885 in annualized capital/startup and/or operation & maintenance costs.

Changes in the Estimates: The increase in burden from the most recently approved ICR is due to an adjustment. The adjustment increase is due to an increase in the number of respondents based on review of the results of a Section 114 request from 2017, EPA's ECHO database, and facility permits. There is an increase in the operation and maintenance (O&M) costs due to the increased number of respondents.

Courtney Kerwin,
Director, Regulatory Support Division.

[FR Doc. 2022-21120 Filed 9-28-22; 8:45 am]

BILLING CODE 6560-50-P